DEPARTMENT OF DEFENSE

Department of the Army

Notice of Availability for Exclusive, Non-Exclusive, or Partially-Exclusive Licensing of an Invention Concerning a Method and Device for Detection of Bioavailable Drug Concentration in a Fluid Sample

AGENCY: Department of the Army, DoD.

ACTION: Notice.

SUMMARY: The invention provides a method for the controlled delivery of a drug as a function of bioavailable drug concentration, a sensor device for detecting bioavailable drug concentration, and a delivery device that controls delivery of the drug based on the real-time detection of bioavailable drug concentration. Announcement is made of the availability for licensing of the invention set forth in International Patent Application No. PCT/US2009/060852 entitled, “Method and Device for Detection of Bioavailable Drug Concentration in a Fluid Sample,” filed on October 15, 2009 (which claims the benefit of U.S. Provisional Patent Application Serial No. 651/105,604 filed October 15, 2008). The United States Government, as represented by the Secretary of the Army, has rights to this invention. U.S. and selected foreign rights are available.

ADDRESSES: Commander, U.S. Army Medical Research and Materiel Command, ATTN: Command Judge Advocate, MCMR-JA, 504 Scott Street, Fort Detrick, Frederick, MD 21702-5012.

FOR FURTHER INFORMATION CONTACT: For patent issues, Ms. Elizabeth Arwine, Patent Attorney, (301) 619-7808. For licensing issues, Dr. Paul Mele, Office of Research and Technology Applications (ORTA), (301) 619-6664, both at telefax (301) 619-5034.

SUPPLEMENTARY INFORMATION: The invention relates to the method of electrochemical detection of bioavailable drug concentration intended to be used to modify the delivery rate of the drug to a patient during real-time.

Brenda S. Bowen,
Army Federal Register Liaison Officer.

[FR Doc. 2012-18 Filed 1-5-12; 8:45 am]

BILLING CODE 3710-08-P